DEPARTMENT OF DEFENSE

Office of the Secretary

[Transmittal No. 25-0Z]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0Z.

Dated: January 16, 2026.
Stephanie J. Bost,
Alternate OSD Federal Register Liaison Officer, Department of Defense.

BILLING CODE 6001-FR-P

BILLING CODE 6001-FR-C

Transmittal No. 25-0Z

REPORT OF ENHANCEMENT OR UPGRADE OF SENSITIVITY OF TECHNOLOGY OR CAPABILITY (SEC. 36(B)(5)(C), AECA)

(i) Prospective Purchaser: Government of India

(ii) Sec. 36(b)(1), AECA Transmittal No.: 19-30

Date: July 26, 2019

Implementing Agency: Air Force

Funding Source: National Funds

(iii) Description: On July 26, 2019, Congress was notified by congressional certification transmittal number 19-30 of the possible sale, under Section 36(b)(1) of the Arms Export Control Act, of C-17 follow-on support, including spares and repair parts; support equipment; personnel training and training equipment; publications and technical documentation; support and test equipment; United States (U.S.) Government and contractor engineering, technical, and logistical support services; and other related elements of logistics and program support. The estimated total cost was $670 million. There was no Major Defense Equipment (MDE) associated with this sale.

On April 2, 2024, Congress was notified by congressional certification transmittal number 24-0C of the addition of the following non-MDE items: follow-on support equipment, including aircraft components, parts, and accessories; precision measurement equipment laboratory calibration; and additional sustainment support, as previously notified. The estimated total value of added non-MDE articles and services was $130 million. The estimated total case value was increased from $670 million to $800 million. There was no MDE associated with this sale.

This transmittal notifies the addition of the following non-MDE items: follow-on sustainment support of the Indian Air Force's C-17 aircraft fleet; major and minor modifications; cartridges, chaffs, and flares; and other related elements of logistics and program support. The estimated total cost of the new items is $1.10 billion. The estimated total case value will increase by $1.10 billion to a revised $1.90 billion. There is no MDE associated with this potential sale.

(iv) Significance: The proposed sale will improve India's capability to meet current and future threats by supporting maintenance and operation of its C-17 aircraft fleet.

(v) Justification: This proposed sale will support the foreign policy and national security objectives of the U.S. by helping to strengthen the U.S.-India strategic relationship and to improve the security of a major defense partner which continues to be an important force for political stability, peace, and economic progress in the Indo-Pacific and South Asia regions.

(vi) Date Report Delivered to Congress: July 25, 2025

[FR Doc. 2026-01122 Filed 1-21-26; 8:45 am]

BILLING CODE 6001-FR-P